SECURITIES AND EXCHANGE COMMISSION

[Release No. 34-82078; SR-BatsBZX-2017-56]

Self-Regulatory Organizations; Bats BZX Exchange, Inc.; Notice of Withdrawal of a Proposed Rule Change To List and Trade Shares of Specified Series of the Innovator Shield Strategy S&P 500 Monthly Index Series and Innovator Ultra Shield Strategy S&P 500 Monthly Index Series Under Rule 14.11(c)(3)

November 14, 2017.

On August 22, 2017, Bats BZX Exchange, Inc. (“Exchange”) filed with the Securities and Exchange Commission (“Commission”), pursuant to Section 19(b)(1) of the Securities Exchange Act of 1934 (“Act”) ¹ and Rule 19b-4 thereunder,² a proposed rule change to list and trade shares of specified series of the Innovator Shield Strategy S&P 500 Monthly Index Series and Innovator Ultra Shield Strategy S&P 500 Monthly Index Series under BZX Rule 14.11(c)(3). The proposed rule change was published for comment in the Federal Register on September 5, 2017.³ The Commission received no comments on the proposed rule change. On October 18, 2017, the Commission extended the time period within which to approve the proposed rule change, disapprove the proposed rule change, or institute proceedings to determine whether to approve or disapprove the proposed rule change to December 4, 2017.⁴

¹ 15 U.S.C. 78s(b)(1).

² 17 CFR 240.19b-4.

³ See Securities Exchange Act Release No. 81495 (August 29, 2017), 82 FR 42003.

⁴ See Securities Exchange Act Release No. 81895, 82 FR 49252 (October 24, 2017).

On November 8, 2017, the Exchange withdrew the proposed rule change (SR-BatsBZX-2017-56).

For the Commission, by the Division of Trading and Markets, pursuant to delegated authority.⁵
⁵ 17 CFR 200.30-3(a)(57).
Eduardo A. Aleman,
Assistant Secretary.

[FR Doc. 2017-25041 Filed 11-17-17; 8:45 am]

BILLING CODE 8011-01-P